DEPARTMENT OF COMMERCE

International Trade Administration

[C-570-039]

Certain Amorphous Silica Fabric From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on certain amorphous silica fabric (silica fabric) from the People's Republic of China (China) would be likely to lead to continuation or recurrence of countervailing subsidies at the levels indicated in the “Final Results of Sunset Review” section of this notice.

DATES: Applicable June 7, 2022.

FOR FURTHER INFORMATION CONTACT: Natasia Harrison, Office VI, AD/CVD Operations, Enforcement and Compliance, International Trade Administration, U.S. Department of Commerce, 1401 Constitution Avenue NW, Washington, DC 20230; telephone: (202) 482-1240.

SUPPLEMENTARY INFORMATION:

Background

On March 17, 2017, Commerce published in the Federal Register the CVD order on silica fabric from China.¹ On February 1, 2022, Commerce initiated the first sunset review of the Order, pursuant to section 751(c) of the Tariff Act of 1930, as amended (the Act).² On February 16, 2022, Commerce received a timely filed notice of intent to participate from Auburn Manufacturing, Inc. (the domestic interested party) within the 15-day deadline specified in 19 CFR 351.218(d)(1)(i).³ The domestic interested party claimed interested party status under section 771(9)(C) of the Act as a producer of the domestic like product.

¹ See Certain Amorphous Silica Fabric from the People's Republic of China: Countervailing Duty Order, 82 FR 14316 (March 17, 2017) (Order).

² See Initiation of Five-Year (Sunset) Reviews, 87 FR 5467 (February 1, 2022) (Initiation Notice).

³ See Domestic Interested Party's Letter, “Amorphous Silica Fabric from the People's Republic of China: Five Year (“Sunset”) Review of Countervailing Duty Order—Notice of Intent to Participate,” dated February 16, 2022.

On March 3, 2022, Commerce received an adequate substantive response to the Initiation Notice from the domestic interested party within the 30-day deadline specified in 19 CFR 351.218(d)(3)(i).⁴ We received no substantive responses from any other interested parties, including the Government of China, and no interested party requested a hearing. On March 21, 2022, Commerce notified the U.S. International Trade Commission that it did not receive an adequate substantive response from respondent interested parties.⁵ As a result, pursuant to section 751(c)(3)(B) of the Act and 19 CFR 351.218(e)(1)(ii)(B)-(C), Commerce conducted an expedited (120-day) sunset review of the Order.

⁴ See Domestic Interested Party's Letter, “Amorphous Silica Fabric from the People's Republic of China: Five Year (“Sunset”) Review of Countervailing Duty Order—Auburn Manufacturing, Inc.'s Substantive Response to Notice of Initiation,” dated March 3, 2022.

⁵ See Commerce's Letter, “Sunset Reviews Initiated on February 1, 2022,” dated March 21, 2022.

Scope of the Order

The product covered by this order is silica fabric. For a complete description of the scope of the Order, see the Issues and Decision Memorandum.⁶

⁶ See Memorandum, “Issues and Decision Memorandum for the Final Results of the Expedited First Sunset Review of the Countervailing Duty Order on Certain Amorphous Silica Fabric from the People's Republic of China,” dated concurrently with, and hereby adopted by, this notice (Issues and Decision Memorandum).

Analysis of Comments Received

All issues raised in this sunset review are addressed in the accompanying Issues and Decision Memorandum, including the likelihood of continuation or recurrence of countervailable subsidies and the net countervailable subsidy likely to prevail if the Order were revoked.⁷ A list of the issues discussed in the decision memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNotices/ListLayout.aspx.

⁷ Id.

Final Results of Sunset Review

Pursuant to sections 751(c)(1) and 752(b) of the Act, Commerce determines that revocation of the Order would likely lead to continuation or recurrence of countervailable subsidies at the rates listed below.

Exporter/producer | Subsidy rate (percent)
ACIT (Pinghu) Inc.; ACIT (Shanghai) Inc. | 48.94
Nanjing Tianyuan Fiberglass Material Co., Ltd. | 79.90
Acmetex Co., Ltd., Beijing Great Pack Materials, Co. Ltd., Beijing Landingji Engineering Tech Co., Ltd., Changshu Yaoxing Fiberglass Insulation Products Co., Ltd., Changzhou Kingze Composite Materials Co., Ltd., Changzhou Utek Composite Co., Chengdu Chang Yuan Shun Co., Ltd., China Beihai Fiberglass Co., Ltd., China Yangzhou Guo Tai Fiberglass Co., Ltd., Chongqing Polycomp International Corp., Chongqing Yangkai Import & Export Trade Co., Ltd., Cixi Sunrise Sealing Material Co., Ltd., Fujian Minshan Fire-Fighting Co., Ltd., Grand Fiberglass Co., Ltd., Haining Jiete Fiberglass Fabric Co., Ltd., Hebei Yuniu Fiberglass Manufacturing Co., Ltd., Hebei Yuyin Trade Co., Ltd., Hengshui Aohong International Trading Co., Ltd., Hitex Insulation (Ningbo) Co., Ltd., Mowco Industry Limited, Nanjing Debeili New Materials Co., Ltd., Ningbo Fitow High Strength Composites Co., Ltd., Ningbo Universal Star Industry & Trade Limited, Ningguo BST Thermal Protection Products Co., Ltd., Qingdao Feelongda Industry & Trade Co., Ltd., Qingdao Shishuo Industry Co., Ltd., Rugao City Ouhua Composite Material Co., Ltd., Rugao Nebola Fiberglass Co., Ltd., Shanghai Bonthe Insulative Material Co., Ltd., Shanghai Horse Construction Co., Ltd., Shanghai Liankun Electronics Material Co., Ltd., Shanghai Suita Environmental Protection Technology Co., Ltd., Shangqui Huanyu Fiberglass Co., Ltd., Shengzhou Top-Tech New Material Co., Ltd., Shenzhen Songxin Silicone Products Co., Ltd., Taixing Chuanda Plastic Co., Ltd., Taixing Vichen Composite Material Co., Ltd., TaiZhou Xinxing Fiberglass Products Co., Ltd., Tenglong Sealing Products Manufactory Yuyao, Texaspro (China) Company, Wallean Industries Co., Ltd., Wuxi First Special-Type Fiberglass Co., Ltd., Wuxi Xingxiao Hi-Tech Material Co., Ltd., Yuyao Feida Insulation Sealing Factory, Yuyao Tianyi Special Carbon Fiber Co., Ltd., Zibo Irvine Trading Co., Ltd., Zibo Yao Xing Fire-Resistant and Heat-Preservation Material Co., Ltd., Zibo Yuntai Furnace Technology Co., Ltd | 165.39
All Others | 64.42

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing these final results and notice in accordance with sections 751(c), 752(b), and 777(i)(1) of the Act and 19 CFR 351.221(c)(5)(ii).

Dated: June 1, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Review

VIII. Recommendation

[FR Doc. 2022-12252 Filed 6-6-22; 8:45 am]

BILLING CODE 3510-DS-P